NUCLEAR REGULATORY COMMISSION

[Docket Nos. 50-315 and 50-316]

Indiana Michigan Power Company; Notice of Partial Withdrawal of Application for Amendment to Renewed Facility Operating License

The U.S. Nuclear Regulatory Commission (the Commission) has granted the request of Indiana Michigan Power Company (the licensee) to partially withdraw its November 3, 2006, as supplemented by letter dated June 27, 2007, application for proposed amendment to Renewed Facility Operating License Nos. DPR-58 and DPR-74 for the Donald C. Cook Nuclear Plant, Units 1 and 2 (DCCNP-1 and DCCNP-2), located in Berrien County, Michigan.

The proposed amendment would have revised the technical specifications to reflect a plant modification that will replace the reactor coolant system (RCS) resistance temperature detectors (RTDs) and bypass piping with fast-response RTD detectors mounted in thermowells directly in the primary loop piping of DCCNP-2. The proposed TS changes affect the applicable notes in the DCCNP-2 TS surveillance requirement for channel calibration of the overtemperature differential temperature (OTΔT) and overpower differential temperature (OPΔT) reactor trip system (RTS) functions. The proposed change would also affect both units' TS Allowable Values (AV) for OTΔT and OPΔT RTS functions.

The Commission had previously issued a Notice of Consideration of Issuance of Amendment published in the Federal Register on January 3, 2007 (72 FR 153). However, by letter dated June 27, 2007, the licensee withdrew the proposed changes to the DCCNP-1 and DCCNP-2 AV for OTΔT and OPΔT RTS functions. The proposed changes to DCCNP-2 TS that were not withdrawn by the licensee were approved by Amendment No. 280, dated September 19, 2007.

For further details with respect to this action, see the application for amendment dated November 3, 2006, and the licensee's letter dated June 27, 2007, which partially withdrew the application for license amendment. Documents may be examined, and/or copied for a fee, at the NRC's Public Document Room (PDR), located at One White Flint North, Public File Area O1 F21, 11555 Rockville Pike (first floor), Rockville, Maryland. Publicly available records will be accessible electronically from the Agencywide Documents Access and Management Systems (ADAMS) Public Electronic Reading Room on the internet at the NRC Web site, http://www.nrc.gov/reading-rm.html. Persons who do not have access to ADAMS or who encounter problems in accessing the documents located in ADAMS should contact the NRC PDR Reference staff by telephone at 1-800-397-4209, or 301-415-4737 or by e-mail to pdr@nrc.gov.

Dated at Rockville, Maryland, this 21st day of September 2007.
For the Nuclear Regulatory Commission.
Adrian Muñiz,
Project Manager, Plant Licensing Branch III-1, Division of Operating Reactor Licensing, Office of Nuclear Reactor Regulation.

[FR Doc. E7-19075 Filed 9-26-07; 8:45 am]

BILLING CODE 7590-01-P